Title 3—

The President

Proclamation 7682 of May 23, 2003

National Missing Children's Day, 2003

By the President of the United States of America

A Proclamation

On National Missing Children's Day, we join with families, law enforcement officials, and child advocates to highlight our commitment to stopping the abduction and exploitation of children. During this year's observance, we celebrate the progress we have made in safeguarding children, and we renew our dedication to protecting our most vulnerable citizens and our most valuable resources.

The Department of Justice estimates that more than 50,000 children will be victims of nonfamily abductions each year. While the rate of recovery in such kidnappings is approximately 99 percent, the trauma of abduction affects far too many. No young person in America should ever know the terror of abduction, and no family should ever have to experience the nightmare of having a loved one suddenly taken.

The safety and well-being of our children is a shared responsibility for all Americans and for Federal, State, and local authorities. My Administration is making the prevention and investigation of child abductions a top priority. We are working to use available resources to educate our citizens about how to prevent child abductions. We are also creating new lines of communication between authorities and the public to help find and safely return missing children to their families. We will continue to vigorously prosecute and severely punish those who would harm our children.

To further these efforts, in August 2002, my Administration released a new guidebook, “Personal Safety for Children: A Guide for Parents” to teach parents steps to improve their children's safety. Since then, copies have been distributed to public and private schools and public libraries throughout the country, in both English and Spanish. In October 2002, I convened the first White House Conference on Missing, Exploited, and Runaway Children to promote public awareness of the issues and to generate recommendations and best practices from experts. And in December 2002, I signed legislation creating the Dot Kids domain, a child-friendly zone on the Internet. The sites on this domain are monitored for content and safety, offering parents peace of mind knowing that their children can learn in a safe and healthy environment.

Last month I signed the PROTECT Act, an important law that provides valuable new ways to deter, investigate, prosecute, and punish crimes against America's children. The PROTECT Act also builds on my Administration's ongoing efforts to expand and improve the AMBER Alert program, which has become an increasingly important tool to help rescue kidnapped children by quickly getting key information about the missing child and the suspect to the public. This law formally establishes the Federal Government's role in the AMBER Alert system and equips the Department of Justice to help State and local officials develop, enhance, and coordinate AMBER plans across America.

Our Nation has come to know the names and faces of far too many children because they have been the victims of acts of cruelty and violence. These crimes break our hearts and stir our anger. Our Nation shares the joy of the parents who are reunited with their children, and prays with those who are still hoping and waiting. We grieve with every family that has suffered the loss of or injury to a child. We will continue the fight against the threats that our children face.

NOW, THEREFORE, I, GEORGE W. BUSH, President of the United States of America, by virtue of the authority vested in me by the Constitution and laws of the United States, do hereby proclaim May 25, 2003, as National Missing Children's Day. I call upon Americans to join me in commemorating this observance by celebrating those children who have been returned to their loved ones, remembering those young people who are missing, and continuing to work together on every front to protect our children from those who would seek to harm them.

IN WITNESS WHEREOF, I have hereunto set my hand this twenty-third day of May, in the year of our Lord two thousand three, and of the Independence of the United States of America the two hundred and twenty-seventh.

B

[FR Doc. 03-13576

Filed 5-28-03; 8:45 am]

Billing code 3195-01-P